DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4 —Cargo aircraft only, 5—Passenger-carrying aircraft.

DATES: Comments must be received on or before April 2, 2010.

Address Comments To: Record Center, Pipeline and Hazardous Materials Safety Administration, U.S. Department of Transportation, Washington, DC 20590 in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for special permit is published in accordance with Part 107 of the Federal hazardous materials transportation law (49 U.S.C. 5117(b); 49 CFR 1.53(b)).

Issued in Washington, DC, on February 18, 2010.
Delmer F. Billings,
Director, Office of Hazardous Materials, Special Permits and Approvals.

Application No. | Docket No. | Applicant | Regulation(s) affected | Nature of special permits thereof
NEW SPECIAL PERMITS
14951-N |  | Lincoln Composites, Lincoln, NE | 49 CFR 173.302a | To authorize the manufacture, marking, sale and use of non-DOT specification fully wrapped fiber reinforced composite gas cylinders for the transportation of certain compressed gases. (mode 1)
14965-N |  | JiangXi Oxygen Plant Co., Ltd., Jiangxi Province | 49 CFR 178.276 | To authorize the manufacture, marking, sale and use of non-DOT specification portable tanks mounted within an ISO frame that have been designed, constructed and stamped in accordance with Section VIII, Division 2 of the ASME Code. (modes 1, 2, 3)
14966-N |  | Vulcore Industrial LLC, Fort Wayne, IN | 49 CFR 173.302 and 180.205 | To authorize the manufacture, marking, sale and use of non-DOT specification cylinders for the transportation of compressed air for use in self-contained breathing apparatus. (modes 1, 2, 3, 4, 5)
14967-N |  | GFS Chemicals, Inc., Columbus, OH | 49 CFR 171-180 | To authorize the one-time transportation in commerce of certain hazardous materials to a new site to be transported as essentially unregulated. (mode 1)
14969-N |  | Pace Air Freight, Inc., Plainfield, IN | 49 CFR 173.196 and 178.609 | To authorize the one-way transportation in commerce of certain Category A infectious substances in alternative packaging (freezers) by motor vehicle. (mode 1)
14971-N |  | Northrop Grumman Corporation, Baltimore, MD | 49 CFR 173.24 | To allow the controlled release of nitrogen and air from a cylinder during transportation to maintain an inert atmosphere in a shipping container to protect the electronic sensors for a satellite. (mode 1)
14973-N |  | NEC Corporation, Fuchu, Tokyo 183-8501 | 49 CFR 173.304a, 173.301, 172.101 Table Column (9B) | To authorize the transportation in commerce of anhydrous ammonia in non-DOT specification packaging (heat pipes). (modes 1, 4)

[FR Doc. 2010-4034 Filed 3-2-10; 8:45 am]

BILLING CODE 4909-60-M